DEPARTMENT OF TRANSPORTATION

National Highway Traffic Safety Administration

49 CFR Parts 531, 533, 535, and 537

[NHTSA-2023-0022]

RIN 2127-AM55

Public Hearing for Corporate Average Fuel Economy Standards for Passenger Cars and Light Trucks for Model Years 2027-2032 and Fuel Efficiency Standards for Heavy-Duty Pickup Trucks and Vans for Model Years 2030-2035

AGENCY: National Highway Traffic Safety Administration (NHTSA), Department of Transportation (DOT).

ACTION: Notice of public hearing.

SUMMARY: The National Highway Traffic Safety Administration (NHTSA) is announcing a virtual public hearing to be held September 28, 2023, on its proposal for the “Corporate Average Fuel Economy Standards for Passenger Cars and Light Trucks for Model Years 2027-2032 and Fuel Efficiency Standards for Heavy-Duty Pickup Trucks and Vans for Model Years 2030-2035,” which was signed on July 28, 2023. This hearing also allows the public to provide oral comments regarding the Draft Environmental Impact Statement that accompanies the proposal. An additional session will be held on September 29, if necessary, to accommodate the number of people that sign up to testify.

DATES: NHTSA will hold a virtual public hearing on September 28, 2023. An additional session will be held on September 29, if necessary, to accommodate the number of people that sign up to testify. The hearing will convene at 9 a.m. Eastern time and will conclude when the last pre-registered speaker has testified but no later than 6 p.m. Eastern time. All hearing attendees, including those who do not intend to provide testimony, should preregister by September 22, 2023. Please refer to the SUPPLEMENTARY INFORMATION section for additional information on the public hearing.

ADDRESSES: The link to register will be available at https://www.nhtsa.gov/cafe. Additional information regarding the hearing appears below under SUPPLEMENTARY INFORMATION.

FOR FURTHER INFORMATION CONTACT: For questions regarding how to register to attend the hearing, please contact NHTSA's Office of Communications at NHTSA.Communication@dot.gov. For any other questions about this notice, please contact Mark Totten, Office of Rulemaking, NHTSA, at (202)-209-3170.

SUPPLEMENTARY INFORMATION: NHTSA, on behalf of the DOT, is proposing new corporate average fuel economy (CAFE) standards for passenger cars and light trucks for MYs 2027-2032, and new fuel efficiency standards for heavy-duty pickup trucks and vans (HDPUVs) for MYs 2030-2035. This proposal responds to NHTSA's statutory obligation to set CAFE and HDPUV standards at the maximum feasible level that the agency determines vehicle manufacturers can achieve in each MY, in order to improve energy conservation. Specifically, NHTSA is proposing new fuel economy standards for passenger cars and light trucks and fuel efficiency standards for model years (MYs) 2027-31 that increase at a rate of 2 percent per year for passenger cars and 4 percent per year for light trucks, and new fuel efficiency standards for heavy-duty pickup trucks and vans (HDPUVs) for MYs 2030-2035 that increase at a rate of 10 percent per year. NHTSA is also setting forth proposed augural standards for MY 2032 passenger cars and light trucks, which would increase at 2 percent and 4 percent year over year, respectively, as compared to the prior year's standards. In addition, NHTSA is also proposing certain technical amendments to clarify and streamline our compliance regulations. The proposal was signed on July 28, 2023, and was published in the Federal Register on August 17, 2023. A notice of availability for the accompanying Draft Environmental Impact Statement (Draft EIS) was published in the Federal Register on August 04, 2023 (88 FR 51812). The Draft EIS is available on NHTSA's CAFE website, https://www.nhtsa.gov/cafe, and is also available in Docket ID No. NHTSA-2022-0075

Participation in Virtual Public Hearing

NHTSA will begin pre-registering speakers for the hearing upon publication of this document in the Federal Register. To register to speak at the virtual hearing, please follow the instructions below. The last day to pre-register to speak at the hearing will be September 22, 2023.

• To watch the hearing (without providing oral comments): Click the link at https://www.nhtsa.gov/cafe and register. Indicate NO on the registration page that you do not wish to provide testimony. Within 24 hours of registering, you will be emailed your link to join.

• To comment at the hearing: Click the link at https://www.nhtsa.gov/cafe and register by September 22. Indicate YES on the registration page that you would like to provide comments. Within 24 hours of registering, you will be emailed your link to join. Additionally, you will receive an email on September 26 with your approximate time to testify, and additional information about how to turn on your audio and camera to comment. We recommend you join via a computer, but if you are unable to do so, an option to join via phone will also be provided in that email.

If you do not receive your confirmation email(s), or have further questions about this hearing, please email NHTSA.Communication@dot.gov. NHTSA is committed to providing equal access to this event for all participants. Closed captioning will be available. People with disabilities who need additional accommodations should send a request to NHTSA.Communication@dot.gov no later than September 22.

Each commenter will have 3 minutes to provide oral testimony. NHTSA may ask clarifying questions during the oral presentations but will not otherwise respond to the presentations at that time. NHTSA recommends submitting the text of your oral comments as written comments to the rulemaking docket or to the Draft EIS docket, as appropriate. Written statements and supporting information submitted during the comment period will be considered with the same weight as oral comments and supporting information presented at the public hearing. If identical comments are submitted by the same commenter more than once to the docket, NHTSA does not consider those comments to carry more weight than if they had been submitted only once. If the oral testimony is specifically intended to reference the Draft EIS, please mention that in your opening remarks.

Please note that any updates made to any aspects of the hearing logistics, including any change to the date of the hearing or a potential additional session on September 29, 2023, will be posted online at the CAFE website, https://www.nhtsa.gov/cafe. While NHTSA expects the hearing to go forward as set forth above, please monitor our website or contact the person listed in the FOR FURTHER INFORMATION CONTACT section to determine if there are any updates. NHTSA does not intend to publish a document in the Federal Register announcing updates. Finally, NHTSA will post a video of the hearing at https://www.nhtsa.gov/cafe and will make a transcript of the hearing available in the rule making docket as soon as practicable.

How can I get copies of the proposed action, the Draft Environmental Impact Statement, and other related information?

NHTSA has established a docket for the proposal under Docket ID No. NHTSA-2023-0022 and a separate docket for the Draft EIS at Docket ID No. NHTSA-2022-0075. Relevant documents and information can also be accessed at NHTSA's CAFE website, at https://www.nhtsa.gov/cafe. Please refer to the notice of proposed rulemaking for detailed information on accessing information related to the proposal and the Draft EIS.

Issued on August 21, 2023, in Washington, DC, under authority delegated in 49 CFR 1.95.
Ann Carlson,
Acting Administrator.

[FR Doc. 2023-18309 Filed 8-24-23; 8:45 am]

BILLING CODE 4910-59-P